DEPARTMENT OF ENERGY

Federal Energy Regulatory Commission

[Docket No. RP00-287-000]

Great Lakes Gas Transmission Limited Partnership and Ocean Energy Resources, Inc.; Notice of Petition for Declaratory Order

May 22, 2000.

Take notice that on May 18, 2000, Great Lakes Gas Transmission Limited Partnership (Great Lakes) and Ocean Energy Resources, Inc. (Ocean) (jointly the parties) pursuant to Rule 207 of the Rules of Practice and Procedure, 18 CFR 385.207, of the Federal Energy Regulatory Commission, tendered for filing a Request for Declaratory order concerning application of Great Lakes' right of First Refusal procedures.

The parties jointly request that the Commission declare whether the “primary term” of the 6-19-98 FT254 shall be determined by reference to the contract date stated in Section 1 and the effective date stated in Section 7, or by reference to the term of service stated in Section 6.

Great Lakes and Ocean ask the Commission to identify the “primary terms” of Service Agreement FT254, for purposes of determining whether Section 16(a) or 16(b) of the Right of First Refusal procedures of Great Lakes' FERC Gas Tariff, Second Revised Volume No. 1, should apply. The parties respectfully request the Commission to issue a final Declaratory Order prior to the July 31, 2000 closing date of the Open Season for the 6-19-98 FTS254 capacity now posted on Great Lakes' Electronic Bulletin Board, so that neither Ocean nor any bidder may be harmed by the outcome of these proceedings.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before June 19, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.
Acting Secretary.

[FR Doc. 00-13229 Filed 5-25-00; 8:45 am]

BILLING CODE 6717-01-M